DEPARTMENT OF TRANSPORTATION

Federal Aviation Administration

Notice of Intent To Request Revision From the Office of Management and Budget of a Currently Approved Information Collection Activity, Request for Comments; Certification: Mechanics, Repairmen, Parachute Riggers FAR-65

AGENCY: Federal Aviation Administration (FAA), DOT.

ACTION: Notice and request for comments.

SUMMARY: The FAA invites public comments about our intention to request the Office of Management and Budget (OMB) to approve a current information collection. Title 49 U.S.C. Sections 47702 and 44703 authorize the issuance of airman certificates. FAR part 65 prescribes requirements for mechanics, repairmen, parachute riggers, and inspection authorizations.

DATES: Please submit comments by October 15, 2007.

FOR FURTHER INFORMATION CONTACT: Carla Mauney on (202) 267-9895, or by e-mail at: Carla.Mauney@faa.gov.

SUPPLEMENTARY INFORMATION:

Federal Aviation Administration (FAA)

Title: Certification: Mechanics, Repairmen, Parachute Riggers FAR-65.

Type of Request: Extension of an approved collection.

OMB Control Number: 2120-0022.

Forms(s): Forms 8610-1, 8610-2.

Affected Public: A total of 38,441 respondents.

Frequency: The information is collected on occasion.

Estimated Average Burden per Response: Approximately 50 minutes per response.

Estimated Annual Burden Hours: An estimated 33,028 hours annually.

Abstract: Title 49 U.S.C. Sections 44702 and 44703 authorize the issuance of airman certificates. FAR part 65 prescribes requirements for mechanics, repairmen, parachute riggers, and inspection authorizations. The information collected shows applicant eligibility for certification.

Addresses: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 8, 2007.
Carla Mauney,
FAA Information Collection Clearance Officer, IT Enterprises Business Services Division, AES-200.

[FR Doc. 07-3971 Filed 8-14-07; 8:45 am]

BILLING CODE 4910-13-M